ENVIRONMENTAL PROTECTION AGENCY

[FRL-6839-8]

Underground Injection Control (UIC) Program; Proposed Coal Bed Methane (CBM) Study Design

AGENCY: Environmental Protection Agency (EPA).

ACTION: Notice of public meeting to receive comment on a study design for collecting information to assess environmental risks associated with the hydraulic fracturing of coal beds for methane gas recovery.

SUMMARY: The purpose of this notice is to announce that EPA intends to conduct a study of the environmental risks associated with hydraulic fracturing; EPA has drafted a design for the study and invites comment from the public on the study design; and, EPA will hold a public meeting to solicit input on the study design.

Prior to 1997, EPA had not considered regulating hydraulic fracturing because the Agency believed that this well production stimulation process did not fall under the UIC program's purview, nor was it under the jurisdiction of the Safe Drinking Water Act (SDWA). In 1994, the Legal Environmental Assistance Foundation (LEAF) challenged that interpretation by petitioning EPA to withdraw Alabama's EPA-approved Section 1425 (SDWA) UIC program because LEAF believed the State should regulate hydraulic fracturing for coal bed methane development as underground injection. EPA rejected LEAF's petition, but LEAF litigated and in 1997, the 11th Circuit Court of Appeals ruled that hydraulic fracturing of coal beds in Alabama should be regulated under the SDWA as underground injection (LEAF v. EPA, 118 F. 3d 1467). The State was required to modify its UIC program, and in December 1999, EPA approved this revision. Since the 11th Circuit Court's decision, EPA has received verbal and written reports from several environmental interest groups that practices associated with methane gas production from coal beds has resulted in contamination of their underground drinking water sources.

Because of such reports, and because the frequency of coal bed methane development is rapidly escalating, EPA will conduct a study to evaluate the environmental risks to underground sources of drinking water, potential and actual, associated with hydraulic fracturing. The study will initially evaluate hydraulic fracturing of coal beds, however, EPA will also consider experiences with hydraulic fracturing associated with other types of production. EPA may later study a wider universe of hydraulic fracturing if information collected during this study indicates further investigation is warranted.

The current study will estimate contamination incidents associated with hydraulic fracturing through interviews with State and local agencies responsible for drinking water protection, citizens, and industries performing hydraulic fracturing. The study will also include a literature review to provide information on the potential risks posed by hydraulic fracturing of coal beds in areas likely to be developed for methane gas production.

EPA is requesting comments on the proposed study design from stakeholders interested in coal bed methane production. EPA believes receiving stakeholder input in the initial study design will assist it in conducting a comprehensive investigation in the most efficient and expeditious way possible.

DATES: A public meeting is scheduled for August 24, 2000, from 9:30 a.m. to 4 p.m. EPA requests parties who plan to attend provide notice including name, title, organization, address, telephone, fax, and/or email by August 15, 2000, so that sufficient facilities can be made available. The meeting will be made available to remote locations through teleconferencing. Any person may also provide comment on the proposed study design in writing to EPA by August 25, 2000.

ADDRESSES: The proposed study can be viewed on EPA's Internet site at http://www.epa.gov/safewater/uic.html. Copies of the proposed study may be obtained from EPA's Water Resource Center by phone at (202) 260-7786, or by e-mail to center.water-resource@epa.gov or by conventional mail to EPA Water Resource Center, RC-4100, Ariel Rios Building, 1200 Pennsylvania Avenue, N.W., Washington, D.C. 20460. Notices to attend the public meeting and comments may be submitted to E. Barros, Horsley & Witten, Inc., 90 Route 6A, Sandwich, MA 02563, Fax: (508) 833-9140, E-mail: ebarros@horsleywitten.com. The August 24, 2000, public meeting will be held at the Omni Shoreham, 2500 Calvert Street, NW., Washington, DC, PH: (202) 234-0700.

FOR FURTHER INFORMATION CONTACT: L. Cronkhite, Ground Water Protection Division, Environmental Protection Agency, Mail Code 4606, Ariel Rios Building, 1200 Pennsylvania Avenue, NW., Washington, DC 20460, PH: (202) 260-0713.

Dated: July 19, 2000.
Cynthia C. Dougherty,
Director, Office of Ground Water and Drinking Water.

[FR Doc. 00-18793 Filed 7-24-00; 8:45 am]

BILLING CODE 6560-50-P